DEPARTMENT OF THE INTERIOR

Bureau of Ocean Energy Management

Gulf of Mexico, Outer Continental Shelf (OCS), Western Planning Area (WPA) and Central Planning Area (CPA), Oil and Gas Lease Sales for 2012-2017

AGENCY: Bureau of Ocean Energy Management (BOEM), Interior.

ACTION: Notice of availability (NOA) of the Multisale Final Environmental Impact Statement (Multisale FEIS).

Authority: This NOA is published pursuant to the regulations (40 CFR 1503) implementing the provisions of the National Environmental Policy Act (NEPA) of 1969, as amended (42 U.S.C. 4321 et seq. (1988)).

SUMMARY: BOEM has prepared a Multisale FEIS on oil and gas lease sales tentatively scheduled during the period 2012-2017 in the WPA and CPA offshore the States of Texas, Louisiana, Mississippi, and Alabama. Under the Proposed Final Outer Continental Shelf Oil and Gas Leasing Program: 2012-2017 (Five-Year Program), five annual areawide lease sales are scheduled for the WPA and five annual areawide lease sales are scheduled for the CPA. The proposed WPA lease sales are Lease Sale 229 in 2012, Lease Sale 233 in 2013, Lease Sale 238 in 2014, Lease Sale 246 in 2015, and Lease Sale 248 in 2016; the proposed CPA lease sales are Lease Sale 227 in 2013, Lease Sale 231 in 2014, Lease Sale 235 in 2015, Lease Sale 241 in 2016, and Lease Sale 247 in 2017.

SUPPLEMENTARY INFORMATION: The Multisale FEIS covers the five WPA and five CPA Gulf of Mexico lease sales scheduled for 2012-2017 in the Five-Year Program. The Multisale FEIS presents the baseline conditions and potential environmental effects of oil and natural gas leasing, exploration, development, and production in the WPA and CPA. In an effort to better understand the environmental impacts resulting from the Deepwater Horizon event, BOEM conducted an extensive search for information. BOEM surveyed scientific journals and available scientific data and information from academic institutions and Federal, state, and local agencies; and interviewed personnel from academic institutions and Federal, state, and local agencies. BOEM examined potential impacts of routine activities and accidental events, including a low-probability catastrophic event associated with a proposed lease sale and a proposed lease sale's incremental contribution to the cumulative impacts on environmental and socioeconomic resources. The oil and gas resource estimates and scenario information for the Multisale FEIS are presented as a range that would encompass the resources and activities estimated for a WPA and CPA proposed lease sale.

Final EIS Availability: To obtain a single, printed or CD-ROM copy of the Multisale FEIS, you may contact the Bureau of Ocean Energy Management, Gulf of Mexico OCS Region, Public Information Office (MS 5034), 1201 Elmwood Park Boulevard, Room 250, New Orleans, Louisiana 70123-2394 (1-800-200-GULF). An electronic copy of the Multisale FEIS is available on BOEM's Internet Web site at http://www.boem.gov/Environmental-Stewardship/Environmental-Assessment/NEPA/nepaprocess.aspx. Several libraries along the Gulf Coast have been sent copies of the Multisale FEIS. To find out which libraries have copies of the Multisale FEIS for review, you may contact BOEM's Public Information Office or visit BOEM's Internet Web site at http://www.boem.gov/Environmental-Stewardship/Environmental-Assessment/NEPA/nepaprocess.aspx#EIS Mailing List.

FOR FURTHER INFORMATION CONTACT: For more information on the Multisale FEIS, you may contact Mr. Gary D. Goeke, Bureau of Ocean Energy Management, Gulf of Mexico OCS Region, 1201 Elmwood Park Boulevard (MS 5410), New Orleans, Louisiana 70123-2394, or by email at MultisaleEIS@BOEM.gov. You may also contact Mr. Goeke by telephone at (504) 736-3233.

Dated: June 19, 2012.
Tommy P. Beaudreau,
Director, Bureau of Ocean Energy Management.

[FR Doc. 2012-16149 Filed 7-5-12; 8:45 am]

BILLING CODE 4310-MR-P